DEPARTMENT OF COMMERCE

International Trade Administration

[A-122-838]

Certain Softwood Lumber Products from Canada: Notice of Rescission of Antidumping Duty Changed Circumstances Review

AGENCY: Import Administration, International Trade Administration, Department of Commerce.

EFFECTIVE DATE: March 30, 2006.

SUMMARY: On January 19, 2006, the Department of Commerce (the Department) published in the Federal Register a notice announcing the initiation of a changed circumstances review of the antidumping duty order on certain softwood lumber products from Canada. See Initiation of Antidumping Duty Changed Circumstances Review: Certain Softwood Lumber Products from Canada 71 FR 4350 (January 19, 2006) (Initiation Notice). The review was requested by Weyerhaeuser Company Limited and Weyerhaeuser Saskatchewan Limited (collectively, Weyerhaeuser). We are now rescinding this review as a result of Weyerhaeuser's withdrawal of its request for a changed circumstances review.

FOR FURTHER INFORMATION CONTACT: Salim Bhabhrawala or Constance Handley at (202) 482-1784 or (202) 482-0631, respectively, AD/CVD Operations, Office 1, Import Administration, International Trade Administration, U.S. Department of Commerce, 14th Street & Constitution Avenue, NW, Washington, DC 20230.

SUPPLEMENTARY INFORMATION:

Background

In accordance with 19 CFR 351.216(b), Weyerhaeuser, a Canadian producer of softwood lumber products, filed a request for a changed circumstances review of the antidumping duty order on certain softwood lumber products from Canada. On January 19, 2006, in accordance with 19 CFR 351.221(c)(3), we published the initiation of a changed circumstances review of this order. See Initiation Notice. On March 6, 2006, Weyerhaeuser withdrew its request for a changed circumstances review.

Rescission of Changed Circumstances Review

The Department's regulations provide that the Department will rescind an administrative review if the party that requested the review withdraws the request within ninety days of the date of publication of the notice of initiation of the requested review. Section 351.213(d)(1) of the Department's regulations regarding review request withdrawals does not specifically reference changed circumstances administrative reviews. In this case, Weyerhaeuser withdrew its request for a changed circumstances review within ninety days of the review being initiated, the time period the Department generally considers reasonable for withdrawing requests for administrative reviews. Therefore, the Department has accepted Weyerhaeuser's withdrawal request in this case as timely.¹

¹ See Notice of Rescission of Changed Circumstances Antidumping Duty Administrative Review: Certain Stainless Steel Butt-Weld Pipe and Tube Fittings from Japan, 67 FR 53777 (August 19, 2002).

The Department is now rescinding this antidumping duty changed circumstances review. U.S. Customs and Border Protection will continue to suspend entries of subject merchandise at the appropriate cash deposit rate for all entries of certain softwood lumber products from Canada.

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: March 23, 2006.
Stephen J. Claeys,
Deputy Assistant Secretary for Import Administration.

[FR Doc. E6-4659 Filed 3-29-06; 8:45 am]

BILLING CODE 3510-DS-S